DEPARTMENT OF HEALTH AND HUMAN SERVICES

National Institutes of Health

National Library of Medicine; Notice of Meeting Amended Notice of Meeting

Notice is hereby given of a change in the virtual meeting of the Biomedical Library, Informatics and Data Science Review Committee, May 17-18, 2024, which was published in the Federal Register on December 21, 2023, 2023, 88 FR 88407.

The meeting will be amended to change the meeting dates from March 7-8, 2024, to March 7, 2024. The meeting will be closed to the public.

Dated: February 12, 2024.
Miguelina Perez,
Program Analyst, Office of Federal Advisory Committee Policy.

[FR Doc. 2024-03212 Filed 2-15-24; 8:45 am]

BILLING CODE 4140-01-P